Title 3—

The President

Proclamation 7531 of March 11, 2002

Bicentennial Day of the United States Military Academy at West Point, 2002

By the President of the United States of America

A Proclamation

For two centuries, the United States Military Academy at West Point, New York, has trained, educated, and inspired thousands of cadets to serve our Nation with integrity, skill, and fortitude as members of our military's officer corps. West Point emphasizes the very highest standards of personal honor, academic achievement, and public duty, preparing its graduates for lives of patriotic commitment and distinguished service. Since the school's beginnings, West Point alumni have played an immensely important role in protecting our national security and preserving democracy around the world.

Upon this 200th anniversary of the Academy's founding, we celebrate West Point's great contributions to the success and strength of America. We pay tribute to the Academy's extraordinary tradition of valor, victory, and sacrifice. This hallowed history is filled with the names of soldiers who fought and sometimes died to preserve and protect the founding principles of our country, ensuring that we can live today in a free and democratic Republic.

On March 16, 1802, President Thomas Jefferson signed an Act of Congress establishing the United States Military Academy at West Point, New York. Since its inception, the institution has played a central role in the training of America's future military leaders. And West Point graduates have marked our history with courage beyond the call of duty; integrity that brought honor to themselves, their school, and their Nation; and military skills that achieved victory after victory.

Academy graduates have long fulfilled West Point's noble tradition of selfless service to country. General John J. Pershing led the American Expeditionary Force to victory in World War I. And in World War II, Generals Dwight Eisenhower, Omar Bradley, Douglas MacArthur, and George Patton proved again the resourcefulness, bravery, and skill of West Point's graduates, helping to lead the Allies to victory over tyranny. In Korea and Vietnam, during Operation Desert Storm, and now in Operation Enduring Freedom, West Point graduates, like Generals Brent Scowcroft, Roscoe Robinson, H. Norman Schwarzkopf, and Franklin “Buster” Hagenbeck, have continued to make significant contributions and great sacrifices for America and her people. And the graduates of West Point continue to be prepared to make the greatest sacrifice. We remember with deep respect and honor, the sacrifice made by Academy graduate, Major Curtis Feistner, who recently gave his life in the fight against terror.

As part of the 200th anniversary of the United States Military Academy, I encourage all Americans to reflect on the Academy's incomparable history of contribution to our country's national security and to remember the West Point graduates who made the ultimate sacrifice in the defense of freedom. The Academy's role in protecting our homeland and in shaping our next generation of battlefield leaders deserves the gratitude and respect of every American. I am pleased to pay tribute to this noble school upon the occasion of its historic anniversary; and I am honored to be serving today as Commander in Chief of so many of its fine graduates.

NOW, THEREFORE, I, GEORGE W. BUSH, President of the United States of America, by virtue of the authority vested in me by the Constitution and laws of the United States, do hereby proclaim March 16, 2002, as West Point Bicentennial Day. I encourage Federal, State, and local officials, as well as leaders of civil, social, educational, and military organizations, to conduct ceremonies and programs that celebrate the United States Military Academy and the values it represents and upholds.

IN WITNESS WHEREOF, I have hereunto set my hand this eleventh day of March, in the year of our Lord two thousand two, and of the Independence of the United States of America the two hundred and twenty-sixth.

B

[FR Doc. 02-6217

Filed 3-12-02; 10:39 am]

Billing code 3195-01-P